DEPARTMENT OF THE INTERIOR

National Park Service

[NPS-WASO-NAGPRA-NPS0039265; PPWOCRADN0-PCU00RP14.R50000]

Notice of Intended Repatriation: Peabody Essex Museum, Salem, MA

AGENCY: National Park Service, Interior.

ACTION: Notice.

SUMMARY: In accordance with the Native American Graves Protection and Repatriation Act (NAGPRA), the Peabody Essex Museum (PEM) intends to repatriate a certain cultural item that meets the definition of an object of cultural patrimony and that has a cultural affiliation with the Indian Tribes or Native Hawaiian organizations in this notice.

DATES: Repatriation of the cultural item in this notice may occur on or after January 29, 2025.

ADDRESSES: Kathryn Smith, Registrar of Collections, Peabody Essex Museum, 161 Essex Street, Salem, MA 01970, telephone (978) 542-1559, email kathryn_smith@pem.org.

SUPPLEMENTARY INFORMATION: This notice is published as part of the National Park Service's administrative responsibilities under NAGPRA. The determinations in this notice are the sole responsibility of the Peabody Essex Museum, and additional information on the determinations in this notice, including the results of consultation, can be found in the summary or related records. The National Park Service is not responsible for the determinations in this notice.

Abstract of Information Available

A total of one cultural item has been requested for repatriation. The one object of cultural patrimony is a group of shell wampum beads, alternating white and purple tubes, about 5.9 inches long, strung on white cotton with each end tied together. This was donated to the Peabody Museum of Salem (now PEM) on October 14, 1884 by Miss Erminnie A. Smith. Museum accession record 1759 recorded the cultural item as “Beads of Tuskarora [sic] Indian Chief.” It was assigned in the logbook as catalog number E991, and described as “Beads of a Chief, Tuscarora” given by Miss E.F. [sic] Smith. Its corresponding 20th century catalog card described the cultural item as “Beads, Wampum, of Tuscarora Chief.” The donor is confirmed as Mrs. Erminnie A. Smith of Jersey City, N.J. in Peabody Academy of Science Annual Report (Salem: 1885, 90). In 1880, the Smithsonian Institution appointed Smith as a “scientific explorer” charged with studying the language and culture of the Six Nations and the collection of cultural items. From published memorial volume, In Memoriam: Mrs. Erminnie A. Smith (Boston: Lee and Shepard, 1890, 33-34), Smith was adopted into the White Bear Clan at Tuscarora Nation and given the name Ka-tc'-tcs-tä´-kwăst.

Determinations

The Peabody Essex Museum has determined that:

• The one object of cultural patrimony described in this notice has ongoing historical, traditional, or cultural importance central to the Tuscarora Nation, including any constituent sub-groups(such as a band, clan, lineage, ceremonial society, or other subdivision), according to the Native American traditional knowledge of an Indian Tribe or Native Hawaiian organization.

• There is a reasonable connection between the cultural item described in this notice and the Tuscarora Nation.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 29, 2025. If competing requests for repatriation are received, the Peabody Essex Museum must determine the most appropriate requestor prior to repatriation. Requests for joint repatriation of the cultural item are considered a single request and not competing requests. The Peabody Essex Museum is responsible for sending a copy of this notice to the Indian Tribes and Native Hawaiian organizations identified in this notice and to any other consulting parties.

Authority: Native American Graves Protection and Repatriation Act, 25 U.S.C. 3004 and the implementing regulations, 43 CFR 10.9.

Dated: December 19, 2024.
Melanie O'Brien,
Manager, National NAGPRA Program.

[FR Doc. 2024-31296 Filed 12-27-24; 8:45 am]

BILLING CODE 4312-52-P